DEPARTMENT OF HOMELAND SECURITY

U.S. Citizenship and Immigration Services

Agency Information Collection Activities: Business Transformation—Automated Integrated Operating Environment (IOE), New Information Collection; Comment Request

ACTION: 60-Day Notice of Information Collection Under Review: Business Transformation—Integrated Operating Environment (IOE); OMB Control No. 1615-NEW.

SUMMARY: USCIS is developing an automated Integrated Operating Environment (IOE) to process benefit applications. The IOE will collect information by asking sequential questions using “wizard” technology. The IOE will allow immigration benefit requests to be filed directly via the internet or “e-filed.” In accordance with the Paperwork Reduction Act of 1995 (PRA) this notice provides the general public and Federal agencies with notice that USCIS will be submitting this information collection request to OMB and the public will have an opportunity to review and comment.

DATES: Interested persons are invited to submit comments on or before May 27, 2011.

ADDRESSES: Written comments and/or suggestions regarding the item(s) contained in this notice, especially regarding the estimated public burden and associated response time, should be directed to the Department of Homeland Security (DHS), USCIS, Chief, Regulatory Products Division, Office of the Executive Secretariat, 20 Massachusetts Avenue, NW., Washington, DC 20529-2020. Comments may also be submitted to DHS via facsimile to 202-272-0997 or via e-mail at rfs.regs@dhs.gov. When submitting comments by e-mail, please be sure to add “Automated IOE” in the subject box. Please do not submit requests for individual case status inquiries to this address. If you are seeking information about the status of your individual case, please check “My Case Status” online at: https://egov.uscis.gov/cris/Dashboard.do, or call the USCIS National Customer Service Center at 1-800-375-5283. If you need a copy of this information collection instrument, please visit the Web site at: http://www.regulations.gov/ or call the Regulatory Products Division at (202) 272-8377.

Background: U.S. Citizenship and Immigration Services (USCIS) is transforming its business processes and systems to improve operational efficiency and customer service, and to strengthen the security and integrity of the immigration system. As part of this effort, USCIS may modify its data collection practices to eventually convert all data collections to e-filing in the IOE. The intent of this change is to improve the consistency and timeliness of its immigration benefit adjudications, as well as to support identity management, evaluate benefit eligibility, promote customer service, and manage national security and benefit risk. This change will also serve to bring USCIS into compliance with the Government Paperwork Elimination Act (GPEA), Public Law 105-277, tit. XVII, section 1703, 112 Stat. 2681, 2681-749 (Oct. 21, 1998), 44 U.S.C. 3504 note, and the E-Government Act of 2002 (Pub. L. 107-347, 116 Stat. 2899, 44 U.S.C. 3601 note). GPEA provides that Federal agencies use electronic forms, electronic filing, and electronic submissions, when possible, to conduct agency business with the public. The E-Government Act sought to promote the use of the Internet by Federal Agencies through efforts like USCIS' Business Transformation initiative.

The IOE will be implemented by USCIS and made available for the public to submit requests over the next few years in increments that USCIS has termed as “releases” and “phases.” As each phase is implemented, DHS will announce each request that has been converted to the IOE, if the IOE will be the sole filing option available, or if the option of filing a paper form will remain available for that benefit for all or certain groups that may seek to submit the applicable request. In general, the IOE will follow the immigration “lifecycle” to first include nonimmigrant benefits, proceeding eventually to applications for naturalization.

The first benefit type available in the automated IOE under Release A, Phase 1, will be the Application to Extend/Change Nonimmigrant Status. Beginning in December 2011, USCIS customers will be able to apply for an extension or change of their nonimmigrant status using the IOE or continue to use the current paper Form I-539 (OMB Control No. 1615-0003). In the future, however, USCIS may allow the current paper Form I-539 to expire, eliminate the option of filing on a paper form, and instead require this benefit application to be filed through the automated IOE. USCIS is very interested in receiving comments concerning mandatory e-filing of this benefit and any future benefits that are added to the automated IOE. USCIS also welcomes comments on which groups, individuals, or businesses for which it would be the most appropriate for USCIS to require (or not require) electronic filing of all benefit requests.

The supporting statement for this information collection contains a more detailed description of the USCIS Business Transformation initiative and wizard technology. The supporting statement can be viewed at: http://www.regulations.gov/.

USCIS is also interested in public comment addressing the following issues:

(1) Evaluate whether the proposed collection of information is necessary for the proper performance of the functions of the agency, including whether the information will have practical utility;

(2) Evaluate the accuracy of the agencies estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: New information collection.

(2) Title of the Form/Collection: Business Transformation—Automated Integrated Operating Environment (IOE).

(3) Agency form number, if any, and the applicable component of the Department of Homeland Security sponsoring the collection: No form number; U.S. Citizenship and Immigration Services (USCIS).

(4) Affected public who will be asked or required to respond, as well as a brief abstract: Primary: Individuals or households. As part of the Business Transformation initiative, USCIS is developing an automated Integrated Operating Environment (IOE). The IOE will use wizard technology and will allow e-filing. Wizard technology gives USCIS the ability to electronically interact with its customers by guiding them through the application process and assisting them to file complete and accurate benefit requests.

(5) An estimate of the total number of respondents and the amount of time estimated for an average respondent to respond: 58,500 responses at an average of 2 hours and 15 minutes per response.

(6) An estimate of the total public burden (in hours) associated with the collection: 131,625 annual burden hours.

The information collection request contains selected screen shots that demonstrate the look and feel of the automated IOE, and a decision tree to show the sequence of questions that the public will be asked by the wizard and the order in which the questions will be asked. For example, when the user answers the question “What is your First Name?” then he or she will be prompted with the question: “What is your Given Name?” If you need to review this information collection instrument, please visit the Web site at: http://www.regulations.gov/.

Dated: March 23, 2011.
Sunday Aigbe,
Chief, Regulatory Products Division, Office of the Executive Secretariat, U.S. Citizenship and Immigration Services, Department of Homeland Security.

[FR Doc. 2011-7186 Filed 3-25-11; 8:45 am]

BILLING CODE 9111-97-P